SECURITIES AND EXCHANGE COMMISSION

[File No. 500-1]

China Lithium Technologies, Inc. and China Wi-Max Communications, Inc.; Order of Suspension of Trading

September 4, 2013.

It appears to the Securities and Exchange Commission that there is a lack of current and accurate information concerning the securities of China Lithium Technologies, Inc. because it has not filed any periodic reports since the period ended March 31, 2012.

It appears to the Securities and Exchange Commission that there is a lack of current and accurate information concerning the securities of China Wi-Max Communications, Inc. because it has not filed any periodic reports since the period ended June 30, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on September 4, 2013, through 11:59 p.m. EDT on September 17, 2013.

By the Commission.
Jill M. Peterson,
Assistant Secretary.

[FR Doc. 2013-21838 Filed 9-4-13; 4:15 pm]

BILLING CODE 8011-01-P